ENVIRONMENTAL PROTECTION AGENCY

[OPPT-2002-0005; FRL-7425-3]

Agency Information Collection Activities; Submission of EPA ICR No. 2055.01 to OMB for Review and Approval; Comment Request

Correction

In notice document 02-32131 beginning on page 77977 in the issue of Friday, December 20, 2002, make the following correction:

On page 77977, in the second column, under the heading DATES, in the second line, “January 21, 2002” should read, “January 21, 2003”.

[FR Doc. C2-32131 Filed 12-30-02; 8:45 am]

BILLING CODE 1505-01-D